DEPARTMENT OF HEALTH AND HUMAN SERVICES

National Institutes of Health

National Center for Research Resources; Cancellation of Meeting

Notice is hereby given of the cancellation of the Clinical Research Review Committee, September 24, 2008, 8 a.m. to September 24, 2008, 5 p.m., Hilton Washington DC/Rockville, Hotel & Executive Meeting Center, 1750 Rockville Pike, Rockville, MD 20852 which was published in the Federal Register on July 31, 2008, 73 FR 148 page 44756.

This meeting will be replaced by a Special Emphasis Panel.

Dated: August 7, 2008.
Anna Snouffer,
Deputy Director, Office of Federal Advisory Committee Policy.

[FR Doc. E8-18744 Filed 8-12-08; 8:45 am]

BILLING CODE 4140-01-M